THE NATIONAL FOUNDATION FOR THE ARTS AND THE HUMANITIES

Proposed Collection, Laura Bush 21st Century Librarian Grant Program Evaluation

AGENCY: Institute of Museum and Library Services, National Foundation for the Arts and the Humanities.

ACTION: Notice, Proposed Collection, Submission for OMB Review.

SUMMARY: The Institute of Museum and Library Services announces the following information collection has been submitted to the Office of Management and Budget for review and approval in accordance with the Paperwork Reduction Act (44 U.S.C. Chapter 35). Individuals who use a telecommunications device for the deaf (TTY/TDD) may call 202-653-4614. This review helps to ensure that requested data can be provided in the desired format, reporting burden (time and financial resources) is minimized, collection instruments are clearly understood, and the impact of collection requirements on respondents can be properly assessed.

A copy of the proposed information collection request can be obtained by contacting the individual listed below in the ADDRESSEES section of this notice.

DATES: Comments must be submitted to the office listed in the addressee section below on or before June 6, 2012. The OMB is particularly interested in comments that help the agency to:

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Matthew Birnbaum, Ph.D., Evaluation and Research Officer, Institute of Museum and Library Services, 1800 M St. NW., Washington, DC 20036. Telephone: 202-653-4647, Fax: 202-653-4611 or by email at mbirnbaum@imls.gov or by teletype (TTY/TDD) for persons with hearing difficulty at 202-653-4614.

SUPPLEMENTARY INFORMATION: The Institute of Museum and Library Services (IMLS) is an independent Federal grant-making agency and is the primary source of federal support for the Nation's 123,000 libraries and 17,500 museums. IMLS provides a variety of grant programs to assist the Nation's museums and libraries in improving their operations and enhancing their services to the public. IMLS is responsible for identifying national needs for, and trends of, museum and library services funded by IMLS; reporting on the impact and effectiveness of programs conducted with funds made available by IMLS in addressing such needs; and identifying, and disseminating information on, the best practices of such programs. (20 U.S.C. Chapter 72, 9108).

Abstract: The Institute of Museum and Library Services seeks to obtain this information via case study interviews in order to evaluate and make improvements to the Laura Bush 21st Century Librarian (LB21) Grant Program. The information gathered will inform the library and information science field of innovations and best practices and guide IMLS in its future administration of the LB21 grant program.

Current Actions: This notice proposes clearance of the Laura Bush 21st Century Librarian Grant Program Evaluation. The 60-day Notice for “Laura Bush 21st Century Librarian Grant Program Evaluation” was published in the Federal Register on November 21, 2011 (FR vol. 76, no. 224, pgs. 72003-72004). No comments were received.

Agency: Institute of Museum and Library Services.

Title: Laura Bush 21st Century Librarian Grant Program Evaluation.

OMB Number: To be determined.

Agency Number: 3137.

Frequency: One time.

Affected Public: Libraries, Educational Institutions, Grant Recipients, and Program Participants.

Number of Respondents: 135.

Estimated Time per Respondent: 1.0 hours.

Total Burden Hours: $3,861.

Total Annualized Capital/Startup Costs: N/A.

Total Annual Costs: N/A.

FOR FURTHER INFORMATION CONTACT: Comments should be sent to Office of Information and Regulatory Affairs, Attn.: OMB Desk Officer for Education, Office of Management and Budget, Room 10235, Washington, DC 20503, 202-395-7316.

Dated: May 2, 2012.
Kim Miller,
Management Analyst, Office of Policy, Research and Evaluation.

[FR Doc. 2012-11192 Filed 5-8-12; 8:45 am]

BILLING CODE 7036-01-P